DEPARTMENT OF ENERGY

Federal Energy Regulatory Commission

[Docket No. RP98-40-000]

Panhandle Eastern Pipeline Company; Notice of Informal Settlement Conference

February 15, 2001.

An informal settlement conference will be held in the above docket regarding the Kansas ad valorem tax refund issues in the proceedings involving the Panhandle Eastern Pipeline Company system. The conference will be held on February 23, 2001, at the Kansas City Airport Marriott, 775 Brasilia, Kansas City, Missouri. The conference will be held from 8 a.m. to 5 p.m. For questions concerning the conference, please call Deborah Osborne, Dispute Resolution Service. Her telephone number is 202-208-0831 and her e-mail address is deborah.osborne@ferc.fed.us. All interested parties in the above-referenced docket are requested to attend.

David P. Boergers,
Secretary.

[FR Doc. 01-4341 Filed 2-21-01; 8:45 am]

BILLING CODE 6717-01-M